SMALL BUSINESS ADMINISTRATION

[Declaration of Disaster #3337]

State of Iowa; Amendment #3

In accordance with a notice received from the Federal Emergency Management Agency, dated May 29, 2001, the above-numbered Declaration is hereby amended to establish the incident period for this disaster as beginning on April 8, 2001 and continuing through May 29, 2001. All other information remains the same, i.e., the deadline for filing applications for physical damage is July 1, 2001 and for economic injury the deadline is February 1, 2002.

(Catalog of Federal Domestic Assistance Program Nos. 59002 and 59008)

Dated: May 31, 2001.
James E. Rivera,
Acting Associate Administrator for Disaster Assistance.

[FR Doc. 01-14303 Filed 6-6-01; 8:45 am]

BILLING CODE 8025-01-P